DEPARTMENT OF THE TREASURY

Office of Foreign Assets Control

[Docket No. OFAC-2022-0001]

Agency Information Collection Activities; Proposed Collection; Comment Request for Persons Providing Travel and Carrier Services to Cuba

AGENCY: Office of Foreign Assets Control, Treasury.

ACTION: Notice and request for comments.

SUMMARY: The Department of the Treasury, as part of its continuing effort to reduce paperwork and respondent burden, invites the general public and other Federal agencies to comment on proposed or continuing information collections, as required by the Paperwork Reduction Act of 1995. Currently, the Office of Foreign Assets Control (OFAC) within the Department of the Treasury is soliciting comments concerning OFAC's information collection requirements for persons providing authorized travel or carrier services related to Cuba, which are contained within the Cuban Assets Control Regulations.

DATES: Written comments must be submitted on or before June 21, 2022 to be assured of consideration.

ADDRESSES: You may submit comments by either of the following methods:

Federal eRulemaking Portal: https://www.regulations.gov. Follow the instructions on the website for submitting comments.

Email: OFACreport@treasury.gov with Attn: Request for Comments (Cuban Travel and Carrier Services).

Instructions: All submissions received must include the agency name and refer to Docket Number OFAC-2022-0001 and the Office of Management and Budget (OMB) control number 1505-0168. Comments received will be made available to the public via https://www.regulations.gov or upon request, without change and including any personal information provided.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Title: Persons Providing Travel and Carrier Services to Cuba.

OMB Number: 1505-0168.

Type of Review: Extension without change of a currently approved collection.

Description: Requirements to retain records are codified in § 515.572(b) of the Cuban Assets Control Regulations, 31 CFR part 515 (the “Regulations”). Persons subject to U.S. jurisdiction who provide authorized travel or carrier services related to Cuba are required to maintain for at least five years from the date of the transaction a certification from each customer indicating the name and address of each customer and the section of the Regulations (in the case of generally licensed travel), or the specific license number, that authorizes the person to travel to Cuba.

The records covered by this information collection must be provided on request to the U.S. Department of the Treasury and will be used to monitor compliance with regulations governing persons subject to U.S. jurisdiction, including travel agents, airlines and vessel operators, providing authorized travel and carrier services with respect to Cuba and persons who travel to Cuba.

Forms: Section 515.572(b)(1) does not specify any particular form of recordkeeping.

Affected Public: Individuals, households, travel and carrier businesses, other for-profit businesses, non-governmental organizations. The likely respondents and record-keepers affected by this collection of information are U.S. travel and carrier businesses.

Estimated Number of Respondents: OFAC estimates, based on multiple sources including data received from the U.S. Department of Homeland Security, U.S. Customs and Border Protection, and information collected by OFAC, that the number of unique record-keepers is approximately 35,000 per year. OFAC believes the significant decline in the number of unique respondents over the past three years is largely due to a change in methodology, including improved data, as well as to other factors discussed below. Pursuant to this methodology, OFAC has identified a smaller number of travel service providers but a larger number of records per respondent. OFAC believes that the decline in the number of unique respondents can also be attributed to the following: (1) An overall decline in travel worldwide due to the Coronavirus Disease 2019 (COVID-19) pandemic; (2) OFAC's elimination of the group people-to-people educational travel authorization in June 2019; and (3) amendments to the Department of Commerce's Bureau of Industry and Security's regulations that restrict the temporary sojourn of aircraft and vessels to Cuba, also in June 2019. OFAC assesses that the number of annual trips will likely slowly increase over the coming three years if travel restrictions due to the COVID-19 pandemic continue to ease, although there is some uncertainty due to the ongoing pandemic.

Estimated Number of Records per Respondent: Based on newly acquired data and OFAC's revised methodology, the estimated number of records is approximately 10 per respondent. (Some recordkeepers may keep far more records and some far less; 10 is an average.)

Estimated Total Number of Annual Records: Based on additional data and OFAC's revised methodology, the estimated total number of annual records is approximately 350,000. OFAC has factored into our assessment a likely increase in travel between the United States and Cuba over the next three years as pandemic travel restrictions ease, but believes that numbers of travelers will not rise to levels present when a wider variety of types of travel to Cuba were generally licensed.

Estimated Time per Record: OFAC assesses that there is an average time estimate of 1 minute per record.

Estimated Total Annual Burden Hours: The estimated total annual reporting burden is approximately 5,800 hours.

Request for Comments

Comments submitted in response to this notice will be summarized and included in OFAC's request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services required to provide information.

Authority: 44 U.S.C. 3501 et seq.

Andrea M. Gacki,
Director, Office of Foreign Assets Control.

[FR Doc. 2022-08657 Filed 4-21-22; 8:45 am]

BILLING CODE 4810-AL-P